DEPARTMENT OF HOMELAND SECURITY

Coast Guard

[USCG-2005-22613]

National Maritime Security Advisory Committee

AGENCY: U.S. Coast Guard, DHS.

ACTION: Notice of meeting.

SUMMARY: The National Maritime Security Advisory Committee (NMSAC) will hold a meeting to discuss various issues relating to national maritime security. This notice announces the date, time, and location for the meeting of the NMSAC.

DATES: NMSAC will meet on Tuesday, November 1, 2005, from 8:30 a.m. to 3:30 p.m. The meeting may close early if all business is finished. Written material and requests to make oral presentations should reach the Coast Guard on or before October 21, 2005. Any material requested to be distributed to each member of the Committee should reach the Coast Guard on or before October 24, 2005.

ADDRESSES: NMSAC will meet in Room 329 at the George Mason University School of Law, 3401 North Fairfax Drive, Arlington, VA 22201. Send written material and requests to make oral presentations to Mr. John Bastek, Commandant (G-MPS-2), U.S. Coast Guard Headquarters, 2100 Second St. SW., Washington, DC 20593-0001. This notice is available on the Internet at http://dms.dot.gov.

FOR FURTHER INFORMATION CONTACT: Mr. John Bastek, Executive Secretary, telephone 202-267-2722, fax 202-267-4130.

SUPPLEMENTARY INFORMATION: Notice of the meeting is given under the Federal Advisory Committee Act, 5 U.S.C. App. 2 (Pub. L. 92-463, 86 Stat. 770).

Agenda of Meeting

The agenda includes the following:

(1) Welcome and administrative items.

(2) Briefings on national maritime security issues.

(3) National Symposium efforts.

(4) Homeport Training.

(5) Working Group Task Statements on Communications and Recovery Planning—coordination with Commercial Operations Advisory Committee (COAC).

Procedural

The meeting is open to the public. However, participation in NMSAC deliberations is limited to NMSAC members, Department of Homeland Security officials, and persons attending the meeting for special presentations. Please note that the meeting may close early if all business is finished. At the Chair's discretion, members of the public may make oral presentations during the meeting. If you would like to make an oral presentation at the meeting, please notify the Executive Secretary no later than October 21, 2005. If you would like a copy of your material distributed to each member of the Committee in advance of the meeting, please submit 25 copies to the Executive Secretary no later than October 24, 2005.

Information on Services for Individuals With Disabilities

For information on facilities or services for individuals with disabilities or to request special assistance at the meeting, contact the Executive Secretary as soon as possible.

Dated: October 11, 2005.
F.J. Sturm,
Captain, U.S. Coast Guard, Chief, Office of Port and Vessel and Facility Security.

[FR Doc. 05-20634 Filed 10-13-05; 8:45 am]

BILLING CODE 4910-15-P